ENVIRONMENTAL PROTECTION AGENCY

[FRL-OP-OFA-155]

Environmental Impact Statements; Notice of Availability

Responsible Agency: Office of Federal Activities, General Information 202-564-5632 or https://www.epa.gov/nepa.

Weekly receipt of Environmental Impact Statements (EIS)

Filed November 22, 2024 10 a.m. EST Through December 2, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240225, Draft Supplement, NRC, SC, NUREG-1437, Supplement 15, Second Renewal, Generic Environmental Impact Statement for License Renewal of Nuclear Plants: Regarding Subsequent License Renewal of Virgil C. Summer Nuclear Station, Unit 1, Draft Report for Comment, Comment Period Ends: 01/21/2025, Contact: Kim Conway 301-415-1335.

EIS No. 20240226, Draft Supplement, OSM, MT, Rosebud Mine Area F, Comment Period Ends: 01/21/2025, Contact: Roberta MartÃ-nez HernÃ¡ndez 303-236-4705.

EIS No. 20240227, Final, APHIS, ID, Predator Damage Management in Idaho, Review Period Ends: 01/06/2025, Contact: Jared Hedelius 208-373-1630.

EIS No. 20240228, Final, USFS, ID, End of the World, Review Period Ends: 01/06/2025, Contact: Jeffrey Shinn 208-839-2103.

Dated: December 2, 2024.
Mark Austin,
Acting Director, NEPA Compliance Division, Office of Federal Activities.

[FR Doc. 2024-28563 Filed 12-5-24; 8:45 am]

BILLING CODE 6560-50-P